DEPARTMENT OF HEALTH AND HUMAN SERVICES

Administration for Children and Families

Announcement of Award

AGENCY: Children's Bureau, ACYF, ACF, HHS.

ACTION: Announcement of the Award of a Single-Source Expansion Supplement Grant to the Regents of the University of Michigan, at Anne Arbor, MI, for the Quality Improvement Center on the Representation of Children in the Child Welfare System (QIC-ChildRep).

CFDA Number: 93.652.

Legislative Authority: Adoption Opportunities Program, section 203 of the Child Abuse Prevention and Treatment and Adoption Reform Act of 1978, (Pub. L. 95-266), as amended by the Keeping Children and Families Safe Act of 2003 (Pub. L. 108-36).

Amount of Award: $250,000.

Project Period: September 30, 2009 through September 29, 2014.

SUMMARY: The Administration for Children and Families (ACF), Children's Bureau (CB) announces the award of a single-source program expansion supplement grant to the Regents of the University of Michigan at Anne Arbor, MI, Quality Improvement Center on the Representation of Children in the Child Welfare System (QIC-ChildRep), to support additional and enhanced evaluation of the QIC-ChildRep research and demonstration projects.

The Regents of the University of Michigan was awarded a cooperative agreement in FY 2009 as the result of a competition to establish the QIC-ChildRep. The purpose of the QIC-ChildRep is to improve the quality of legal representation for children and youth in child welfare cases so that States and Tribes achieve the best safety, permanency and well-being outcomes for children and youth.

Under the cooperative agreement, the QIC-ChildRep develops knowledge about effective strategies to provide competent and effective representation for children and youth in child welfare cases, promotes the certification of lawyers as specialist is child welfare, develops and implements child representation research and demonstration projects to promote evidence-based, evidence-informed practice improvements and effective child representation, establishes and maintains a national information sharing network to disseminate information on promising practices; evaluates the impact of selected projects implementing the child representation models on outcomes for children and families who have competent and effective child representation, and identifies barriers and recommends need changes in laws, policies, procedures and/or practice. The supplemental funds will be used to provide additional training, technical assistance, and support to each research and demonstration site to fully implement and maintain rigorous on-site and cross-site evaluation plans.

FOR FURTHER INFORMATION CONTACT: Gail Collins, Children's Bureau, 1250 Maryland Avenue, SW., Washington, DC 20047. Telephone: 202-205-8552, e-mail: gail.collins@acf.hhs.gov.

Dated: March 23, 2011.
Bryan Samuels,
Commissioner, Administration on Children, Youth and Families.

[FR Doc. 2011-7648 Filed 3-31-11; 8:45 am]

BILLING CODE 4184-29-P